DEPARTMENT OF AGRICULTURE

Forest Service

Rams Horn Project, Mark Twain National Forest, Phelps and Pulaski Counties MO

AGENCY: Forest Service, USDA.

ACTION: Notice; intent to prepare an environmental impact statement.

SUMMARY: The Forest Service will prepare an environmental impact statement (EIS) to analyze and disclose the environmental effects of proposed land management activities and corresponding alternatives within the Rams Horn project area. The Rams Horn project area is located immediately east of Fort Leonard Wood Military Reservation on National Forest System lands administered by the Houston/Rolla/Cedar Creek Ranger District in the Spring Creek and Big Piney River watersheds, southwest of Rolla, Missouri. The legal description of the project area is: Township 34 North, Range 9 West, sections 4-6; Township 34 North, Range 10 West, sections 1, 2; Township 35 North, Range 9 West, sections 6, 7, 16-21, 26-36; Township 36 North, Range 10 West, sections 34-36, Fifth Principal Meridian.

The purpose of this project is to implement land management activities that are consistent with the direction in the Mark Twain Land and Resource Management Plan (Forest Plan) and respond to specific needs identified in the project area. The project-specific needs include addressing: wildlife habitat maintenance and improvement, reduction of non-native invasive noxious weeds, watershed rehabilitation, recreation management, and associated or connected actions.

DATES: Initials comments concerning the scope of the analysis should be received within 30 days following publication of this notice to receive timely consideration in the preparation of the draft EIS.

ADDRESSES: Send written comments and suggestions on the proposed action or requests to be placed on the project mailing list to: John C. Bisbee, District Ranger, Houston/Rolla/Cedar Creek Ranger District, 108 South Sam Houston Boulevard, Houston, Missouri 65483. E-mail should have a subject line that reads “NEPA Houston” and be sent to: mailroom_r9_mark_twain@fs.fed.us.

FOR FURTHER INFORMATION CONTACT: Mark Hamel, Project Leader/NEPA Coordinator, Houston/Rolla/Cedar Creek Ranger District, 108 South Sam Houston Boulevard, Houston, Missouri 65483, phone (417) 697-4194.

SUPPLEMENTARY INFORMATION: The information presented in this notice is included to help the reviewer determine if they are interested in or potentially affected by the proposed land management activities. The information presented in this notice is summarized. Those who wish to provide comments, or are otherwise interested in or affected by the project, are encouraged to obtain additional information from the contact identified in the FOR FURTHER INFORMATION CONTACT Section.

Proposed Action

The proposed land management activities (proposed actions) include the following, with approximate values: (1) Wildlife habitat maintenance and improvement—(a) Maintain 200 acres of unique post oak savanna habitat by personnel use firewood removal and prescribed burning, (b) maintain 400 acres of unique post oak savanna habitat by prescribed burning. (c) maintain existing open and semi open habitat by utilizing prescribed fire on 1,050 acres, (d) maintain existing open and semi open habitat by utilizing grazing and/or prescribed fire on 100 acres, (e) maintain existing open and semi open habitat by utilizing mechanical means such as brush hogging and/or prescribed fire on 100 acres, (f) enhance the warm season grass component in existing open and semi open habitat by planting 50 acres with Gamma grass, (g) maintain and enhance habitat for old growth wildlife species by designating 1,600 acres of old growth, and, (h) create 1,100 acres of 0-9 age class habitat (would be accomplished with: group selection harvest on 1,400 acres, shelterwood harvest on 550 acres, clearcut harvest on 400 acres) and 700 acres of Woodland Habitat in Oak, Oak-Pine, and Pine which exhibits a condition of 20-30 percent forbs, grass and shrub ground cover (would be accomplished with: group selection harvest on 1,400 acres, commercial thinning on 400 acres, and thinning on 400 acres of pine plantations to encourage oak regeneration), (2) Reduction of non-native invasive noxious weeds—eliminate multi-flora rose on 100 acres through the use of herbicides; (3) Watershed rehabilitation—(a) improve bottomland riparian habitat by planting hardwoods on 50 acres, (b) improve bottomland riparian habitat by removing existing river access sites and access roads, (c) improve overall watershed health by closing and rehabilitating 2 miles of old non system road corridors, and, (d) improve existing stream crossing; (4) Recreation management—(a) improve an existing river access site by providing proper parking facilities for canoeists, and, (b) relocate an existing river access site (will require construction of ¼ mile of new system road and parking area) because of watershed concerns and for public safety; (5) Associated or connected actions—actions pertinent to this project, such as; (a) construction and obliteration of 10 miles of temporary road to accomplish some of the items listed in (item 1) above, (b) fire line construction, etc.

Decision Space

Decision making will be limited to activities relating to the proposed actions. The primary decision to be made will be whether or not to implement the proposed actions listed above, a no-action alternative, or another alternative that responds to the projects purpose and needs.

Preliminary Issues

Preliminary comments made by the public and agencies were considered in the development of the tentative or preliminary issues. These are as follows: effects on Threatened, Endangered, and Sensitive (TES) species and Management Indicator Species (MIS); concern over new road construction, and road closures; concern over motorized recreational access; current and designated old growth; current vegetative patterns, and species composition; and effects of restoration activities to the overall watershed.

Public Participation

The Forest Service will be seeking information, comments, and assistance from Federal, State, and local agencies, the Osage Tribe, and other individuals or organizations that may be interested in or affected by the proposed actions. Comments received in response to this notice will become a matter of public record. While public participation in this analysis is welcome at any time, comments on the proposed actions received within 30 days of the publication of this notice will be especially useful in the preparation of the draft EIS. Timely comments will be used in preparation of the draft EIS. The scoping process will be used to: identify potential issues; identify additional alternatives to the proposed action; and, identify potential environmental effects of the proposed action and alternatives (i.e., direct, indirect, and cumulative effects). In addition, the public is encouraged to visit with Forest Service officials at any time during the analysis and prior to the decision.

Estimated Dates for Filing

The draft EIS is expected to be filed with the Environmental Protection Agency and available for public review in April 2002. A 45-day comment period will follow publication of a Notice of Availability of the draft EIS in the Federal Register. Comments received on the draft EIS will be analyzed and considered in preparation of a final EIS, expected in June 2002. A Record of Decision (ROD) will also be issued at that time along with the publication of a Notice of Availability of the final EIS and ROD in the Federal Register.

Reviewers Obligation To Comment

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F2d 1016, 1022 (9th Cir, 1986), and Wisconsin Heritage Inc. v. Harris, 490 F.Supp. 1334, 1338 (E.D. Wis., 1980). Because of these court rulings, it is very important that those interested in this proposed action participate by the close of the 45-day comment prior of the draft EIS in order that substantive comments and objections are available to the Forest Service at a time when it can meaningfully consider then and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Responsible Official

The responsible official for this environmental impact statement is Randy Moore, Forest Supervisor, Mark Twain National Forest.

Dated: January 18, 2002.
John C. Bisbee,
District Ranger, Mark Twain National Forest.

[FR Doc. 02-3776 Filed 2-14-02; 8:45 am]

BILLING CODE 3410-11-M